DEPARTMENT OF LABOR

Employment and Training Administration

[TA-W-40,353]

Dynamic Details, LP, a Division of Dynamic Details, Inc., Garland, Texas; Notice of Termination of Investigation

Pursuant to section 221 of the Trade Act of 1974, an investigation was initiated on November 13, 2001 in response to a worker petition, which was filed by the company on behalf of workers at Dynamic Details, LP, a division of Dynamic Details, Inc., Garland, Texas.

The petitioner has requested that the petition be withdrawn. Consequently, further investigation in this case would serve no purpose, and the investigation has been terminated.

Signed in Washington, DC, this 6th day of May, 2002.
Linda G. Poole
Certifying Officer, Division of Trade Adjustment Assistance.

[FR Doc. 02-13941 Filed 6-3-02; 8:45 am]

BILLING CODE 4510-30-P